DEPARTMENT OF ENERGY

[FE Dockets No. PP-231]

Application for Presidential Permit; Northern States Power Company

AGENCY: Office of Fossil Energy, DOE.

ACTION: Notice of Application.

SUMMARY: Northern States Power Company (NSP) has applied for a Presidential permit to construct, operate, maintain, and connect a 230,000-volt (230-kV) electric transmission line across the U.S. border with Canada.

DATES: Comments, protests, or requests to intervene must be submitted on or before March 14, 2001.

ADDRESSES: Comments, protests, or requests to intervene should be addressed as follows: Office of Coal & Power Import and Export (FE-27), Office of Fossil Energy, U.S. Department of Energy, 1000 Independence Avenue, SW., Washington, DC 20585-0350.

FOR FURTHER INFORMATION CONTACT: Steven Mintz (Program Office) 202-586-9506 or Michael T. Skinker (Program Attorney) 202-586-2793.

SUPPLEMENTARY INFORMATION: The construction, operation, maintenance, or connection of facilities at the international border of the United States for the transmission of electric energy between the United States and a foreign country is prohibited in the absence of a Presidential permit issued pursuant to Executive Order (EO) 10485, as amended by EO 12038.

On November 2, 2000, NSP, a wholly-owned subsidiary of Xcel Energy Incorporated (Xcel), filed an application with the Office of Fossil Energy (FE) of the Department of Energy (DOE) for a Presidential permit. NSP, doing business as Excel, proposes to construct a 230-kV transmission line that would extend approximately 53 miles from a new substation to be built in Rugby, North Dakota, to the U.S.-Canadian border. From the border, the proposed transmission line would extend an additional 50 miles into Canada to an existing substation located in Glenboro, Manitoba, Canada. The facilities within Canada will be developed, owned, and operated by Manitoba Hydro. The proposed Rugby-to-Glenboro transmission line is one component of a larger set of 230-kV transmission system improvements being implemented jointly by Xcel and Otter Tail Power Company.

Since the restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities constructed pursuant to Presidential permits to provide access across the border in accordance with the principles of comparable open access and non-discrimination contained in the FPA and articulated in Federal Energy Regulatory Commission Order No. 888, as amended (Promoting Wholesale Competition Through Open Access Non-Discriminatory Transmission Services by Public Utilities). In furtherance of this policy, DOE intends to condition any Presidential permit issued in this proceeding on compliance with these open access principles.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above. Additional copies of such petitions to intervene or protests also should be filed directly with: James Alders, Xcel Energy, Inc., 414 Nicollet Mall—4th Floor, Minneapolis, MN 55401.

Before a Presidential permit may be issued or amended, the DOE must determine that the proposed action will not adversely impact on the reliability of the U.S. electric power supply system. In addition, DOE must consider the environmental impacts of the proposed actions pursuant to the National Environmental Policy Act of 1969. DOE also must obtain the concurrence of the Secretary of State and the Secretary of Defense before taking final action on a Presidential permit application.

Copies of this application will be made available, upon request, for public inspection and copying at the address provided above. In addition, the application may be reviewed or downloaded from the Fossil Energy Home Page at: http://www.fe.doe.gov. Upon reaching the Fossil Energy Home page, select “Electricity” from the options menu, and then “Pending Proceedings.”

Issued in Washington, D.C., on February 5, 2001.
Anthony J. Como,
Deputy Director, Electric Power Regulation, Office of Coal & Power Im/Ex, Office of Fossil Energy.

[FR Doc. 01-3491 Filed 2-9-01; 8:45 am]

BILLING CODE 6450-01-P